DEPARTMENT OF ENERGY

Federal Energy Regulatory Commission

[Project No. 14550-001]

New England Hydropower Company, LLC; Notice of Application Accepted for Filing With the Commission, Intent To Waive Scoping, Soliciting Motions To Intervene and Protests, Ready for Environmental Analysis, and Soliciting Comments, Terms and Conditions, and Recommendations, and Establishing an Expedited Schedule for Processing

Take notice that the following hydroelectric application has been filed with the Commission and is available for public inspection.

a. Type of Application: Exemption from Licensing.

b. Project No.: 14550-001.

c. Date filed: June 26, 2015.

d. Applicant: New England Hydropower Company, LLC.

e. Name of Project: Hanover Pond Dam Hydroelectric Project.

f. Location: On the Quinnipiac River, in the City of Meriden, New Haven County, Connecticut. The project would not occupy lands of the United States.

g. Filed Pursuant to: Public Utility Regulatory Policies Act of 1978, 16 U.S.C. 2705, 2708.

h. Applicant Contact: Michael C. Kerr, New England Hydropower Company, LLC, P.O. Box 5524, Beverly, MA 01915; (978) 360-2547.

i. FERC Contact: Erin Kimsey, (202) 502-8621, or email at erin.kimsey@ferc.gov.

j. Deadline for filing motions to intervene and protests, comments, terms and conditions, and recommendations: Due to the small size and location of this project and the close coordination with state and federal agencies during preparation of the application, the 60-day timeframe in 18 CFR 4.34(b) is shortened. Instead, motions to intervene and protests, comments, terms and conditions, and recommendations are due 30 days from the issuance date of this notice. All reply comments must be filed with the Commission within 45 days from the issuance date of this notice.

The Commission strongly encourages electronic filing. Please file motions to intervene, protests, comments, and recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13806-004.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Waiver of Pre-filing Consultation: In its application, the New England Hydropower Company requested that the Commission waive the requirement to conduct second stage consultation pursuant to section 4.38(c) of the Commission's regulations. The applicant provided documentation indicating that the Connecticut Department of Energy and Environmental Protection, National Marine Fisheries Service, and United States Fish and Wildlife Service had agreed to waive second stage consultation on September 10, 2015, August 26, 2015, and August 26, 2015, respectively. Therefore, we are waiving the requirement to conduct second stage consultation pursuant to section 4.38(c) of the regulations and accepting the application.

l. This application has been accepted for filing and is now ready for environmental analysis.

m. The proposed Hanover Pond Dam Hydroelectric Project would consist of: (1) An existing 25-foot-high, 150-foot-long earth embankment dam with four low-level sluice gates and a 250-foot-long concrete spillway; (2) an existing 71.0-acre impoundment (i.e., Hanover Pond) with a storage capacity of 1,800 acre-feet at a normal operating elevation of about 87.3 feet National Geodetic Vertical Datum of 1929 (NGVD29); (3) an existing 175-foot-long, 16.0-foot-wide fish ladder; (4) a new 8-foot-high, 12.5-foot-wide hydraulically-powered sluice gate equipped with a new 8-foot-high, 17-foot-wide trashrack with 9-inch bar spacing; (5) a new 78-foot-long, 12-foot-diameter buried precast concrete penstock; (6) a new 46.5-foot-long, 11.65-foot-wide Archimedes screw generator unit, with an installed capacity of 192 kilowatts; (7) a new 12-foot-high, 18-foot-long, 16.0-foot-wide concrete powerhouse containing a new gearbox, generator, and electrical controls; (8) a new 15-foot-long, variable-width concrete tailrace; (9) a new 500-foot-long, 35-kilovolt above-ground transmission line connecting the powerhouse to Connecticut Light and Power's distribution system; and (10) appurtenant facilities. The estimated annual generation of the proposed Hanover Pond Dam Hydroelectric Project would be about 900 megawatt-hours.

n. Due to the applicant's close coordination with federal and state agencies during the preparation of the application, completed studies during pre-filing consultation, and agency recommended preliminary terms and conditions, we intend to waive scoping and expedite the exemption process. Based on a review of the application, resource agency consultation letters including the preliminary 30(c) terms and conditions, and comments filed to date, Commission staff intends to prepare a single environmental assessment (EA). Commission staff determined that the issues that need to be addressed in its EA have been adequately identified during the pre-filing period, which included a public scoping meeting and site visit, and no new issues are likely to be identified through additional scoping. The EA will consider assessing the potential effects of project construction and operation on geology and soils, aquatic, terrestrial, threatened and endangered species, recreation and land use, aesthetic, and cultural and historic resources.

o. A copy of the application is available for review at the Commission in the Public Reference Room or may be viewed on the Commission's Web site at http://www.ferc.gov using the “eLibrary” link. Enter the docket number excluding the last three digits in the docket number field to access the document. For assistance, contact FERC Online Support. For assistance, contact FERC Online Support. A copy is also available for inspection and reproduction at the address in item h above.

You may also register online at http://www.ferc.gov/docs-filing/esubscription.asp to be notified via email of new filings and issuances related to this or other pending projects. For assistance, contact FERC Online Support.

p. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. Procedural Schedule: The application will be processed according to the following procedural schedule. Revisions to the schedule may be made as appropriate.

Milestone | Target date
Notice of the availability of the EA | January 2016.

Dated: September 16, 2015.
Nathaniel J. Davis, Sr.,
Deputy Secretary.

[FR Doc. 2015-24539 Filed 9-25-15; 8:45 am]

BILLING CODE 6717-01-P